NATIONAL AERONAUTICS AND SPACE ADMINISTRATION

[Notice 13-003]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Frances Teel, NASA Aeronautics and Space Administration, Washington, DC 20546-0001.

FOR FURTHER INFORMATION CONTACT: Requests for additional information or copies of the information collection instrument(s) and instructions should be directed to Ms. Frances Teel, NASA Clearance Officer/JF000, NASA Headquarters, 300 E Street SW., Washington, DC 20546 or Frances.C.Teel@nasa.gov.

SUPPLEMENTARY INFORMATION:

I. Abstract

The LISTS (Locator and Information Services Tracking System) form is used at NASA Goddard Space Flight Center to collect locator information on support contractors when the information cannot be imported from other systems. The LISTS also serves as repository for contact information in the event of an emergency during or outside official duty hours. Information collected is also used for short and long-term institutional planning.

II. Method of Collection

The preferred method of collection is electronic. Approximately 60% of the data is collected electronically by means of a data entry screen that duplicates the Goddard Space Flight Center form GSFC 24-27 in the LISTS system. The remaining 40% of the data is keyed into the system from submissions of a hardcopy version of form GSFC 24-27.

III. Data

Title: Locator and Information Services Tracking System (LISTS) Form.

OMB Number: 2700-0064.

Type of review: Extension of currently approved collection.

Affected Public: Individuals or households.

Responses per Respondent: 1.

Annual Responses: 8,455.

Hours per Request: 0.08 hours/5 minutes.

Annual Burden Hours: 705.

Annual Cost to the Government: $170,200.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Frances Teel,
NASA Clearance Officer.

[FR Doc. 2013-01228 Filed 1-22-13; 8:45 am]

BILLING CODE 7510-13-P